DEPARTMENT OF ENERGY

Federal Energy Regulatory Commission

[Project No. 12796-004]

City of Wadsworth, Ohio; Notice of Scoping Meeting and Environmental Site Review and Soliciting Scoping Comments

Take notice that the following hydroelectric application has been filed with the Commission and is available for public inspection.

a. Type of Application: Major Original License.

b. Project No.: P-12796-004.

c. Date filed: March 28, 2011.

d. Applicant: City of Wadsworth, Ohio.

e. Name of Project: R.C. Byrd Hydroelectric Project.

f. Location: On the Ohio River at the U.S. Army Corps of Engineers' (Corps), R.C. Byrd Locks and Dam (river mile 279.2), approximately 12.7 miles south of the confluence of the Ohio River and the Kanawha River, nine miles south of the Town of Gallipolis, Gallia County, Ohio. The project would occupy 7.6 acres of federal land managed by the Corps.

g. Filed Pursuant to: Federal Power Act 16 U.S.C. 791 (a)-825(r).

h. Applicant Contact: Mr. Chris Easton, Director of Public Service, the City of Wadsworth, Ohio, 120 Maple Street, Wadsworth, OH 44281 (330-335-2777); Philip E. Meier, Hydro Development, American Municipal Power, Inc., 1111 Schrock Road, Suite 100, Columbus, OH (614-540-0913).

i. FERC Contact: Gaylord Hoisington, (202) 502-6032 or gaylord.hoisington@ferc.gov.

j. Deadline for filing scoping comments: April 27, 2012.

All documents may be filed electronically via the Internet. See 18 CFR 385.2001(a)(1)(iii) and the instructions on the Commission's Web site (http://www.ferc.gov/docs-filing/efiling.asp). Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filings, documents may also be paper-filed. To paper-file, mail an original and seven copies to: Kimberly D. Bose, Secretary, Federal Energy Regulatory Commission, 888 First Street NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The proposed project would utilize the existing Corps' R.C. Byrd Locks and Dam and would consist of the following new facilities: (1) A 1,200-foot-long intake channel; (2) a trashrack located in front of each of the generating unit intakes, with a bar spacing of approximately 8 inches; (3) a reinforced concrete powerhouse measuring approximately 258 feet long by 145 feet wide by 110 feet high, and housing two bulb-type turbine generator units with a total installed capacity of 50 megawatts; (4) a 900-foot-long tailrace channel; (5) a 2.41-mile-long, 138-kilovolt transmission line; and (6) appurtenant facilities. The proposed project would have an average annual generation of 266 gigawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process.

The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Wednesday, March 28, 2012.

Time: 1 p.m. (EDT).

Place: Quality Inn.

Address: 577 State Route 7 North, Gallipolis, Ohio.

Public Scoping Meeting

Date: Wednesday, March 28, 2012.

Time: 7 p.m. (EDT).

Place: Quality Inn.

Address: 577 State Route 7 North, Gallipolis, Ohio.

Copies of the Scoping Document outlining the subject areas to be addressed in the EA, was mailed to the individuals and entities on the Commission's mailing lists and Wadsworth's distribution list. Copies of the Scoping Document will be available at the scoping meetings, or may be viewed on the web at http://www.ferc.gov, using the “eLibrary” link. Follow the directions for accessing information in paragraph m. Based on all oral and written comments, a Revised Scoping Document may be issued. A Revised Scoping Document may include additional issues, identified through the scoping process.

Environmental Site Review

The Applicant and FERC staff will conduct a project Environmental Site Review beginning at 9 a.m. on March 28, 2012. All interested individuals, organizations, and agencies are invited to attend. All participants should meet at the Robert C. Byrd Locks and Dam in Gallipolis, Ohio (Ohio side). All participants are responsible for their own transportation to the site. Anyone with questions about the Environmental Site Review should contact Philip E. Meier at 614-540-0913 or Gaylord Hoisington at 202-502-6032.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meetings and to assist the staff in defining and clarifying the issues to be addressed in the EA.

Dated: February 27, 2012.
Kimberly D. Bose,
Secretary.

[FR Doc. 2012-5106 Filed 3-1-12; 8:45 am]

BILLING CODE 6717-01-P